BUREAU OF CONSUMER FINANCIAL PROTECTION

[Docket No. CFPB-2017-0022]

Agency Information Collection Activities: Comment Request; Correction

AGENCY: Bureau of Consumer Financial Protection.

ACTION: Notice and request for comment.

SUMMARY: The Bureau of Consumer Financial Protection published a notice in the Federal Register of July 19, 2017 concerning a request for comments on the proposed extension without change of an Office of Management and Budget (OMB) control number. The OMB control number in the notice was incorrect.

FOR FURTHER INFORMATION CONTACT: The Consumer Financial Protection Bureau, (Attention: PRA Office), 1700 G Street NW., Washington, DC 20552, (202) 435-9575, or email: CFPB_PRA@cfpb.gov.

Correction

In the Federal Register of July 19, 2017 in FR Doc. 2017-15105 on page 33071, in the third column, correct “OMB Control Number” to read: 3170-0042.

Dated: July 24, 2017.
Darrin A. King,
Paperwork Reduction Act Officer, Bureau of Consumer Financial Protection.

[FR Doc. 2017-15981 Filed 7-27-17; 8:45 am]

BILLING CODE 4810-AM-P